ENVIRONMENTAL PROTECTION AGENCY

[FRL 9942-42-OA]

Local Government Advisory Committee (LGAC); Notice of Charter Renewal

AGENCY: Environmental Protection Agency (EPA).

ACTION: Notice.

Notice is hereby given that the Environmental Protection Agency (EPA) has determined that, in accordance with the provisions of the Federal Advisory Committee Act (FACA), 5 U.S.C. App. 2, the Local Government Advisory Committee (LGAC) is a necessary committee which is in the public interest. Accordingly, LGAC will be renewed for an additional two-year period. The purpose of LGAC is to provide advice and recommendations to EPA's Administrator on ways to improve its partnership with Local Governments and provide more efficient and effective environmental protection.

Inquiries may be directed to Frances Eargle, Designated Federal Officer, LGAC, U.S. EPA, (Mail Code 1301A), 1200 Pennsylvania Avenue NW., Washington, DC 20460, or eargle.frances@epa.gov.

Dated: February 4, 2016.
Nichole Distefano,
Associate Administrator, Office of Congressional and Intergovernmental Relations.

[FR Doc. 2016-03101 Filed 2-12-16; 8:45 am]

BILLING CODE 6560-50-P